DEPARTMENT OF THE INTERIOR

National Park Service

Notice of September 13, 2010 Meeting for Acadia National Park Advisory Commission

AGENCY: National Park Service, Department of Interior.

ACTION: Notice of September 13, 2010 Meeting for Acadia National Park Advisory Commission.

SUMMARY: This notice sets the date of September 13, 2010, meeting of the Acadia National Park Advisory Commission.

DATES: The public meeting of the Advisory Commission will be held on Monday, September 13, 2010, at 1 p.m. (EASTERN).

Location: The meeting will be held at Park Headquarters, Bar Harbor, Maine 04609.

Agenda

The September 13, 2010, Commission meeting will consist of the following:

1. Committee reports:

—Land Conservation.

—Park Use.

—Science and Education.

—Historic.

2. Old Business.

3. Superintendent's Report.

4. Chairman's Report.

5. Public Comments.

FOR FURTHER INFORMATION CONTACT: Further information concerning this meeting may be obtained from the Superintendent, Acadia National Park, P.O. Box 177, Bar Harbor, Maine 04609, telephone (207) 288-3338.

SUPPLEMENTARY INFORMATION: The meeting is open to the public. Interested persons may make oral/written presentations to the Commission or file written statements. Such requests should be made to the Superintendent at least seven days prior to the meeting. Before including your address, phone number, e-mail address, or other personal identifying information in your comment, you should be aware that your entire comment—including your personal identifying information—may be made publicly available at any time. While you can ask us in your comment to withhold your personal identifying information from public review, we cannot guarantee that we will be able to do so.

Dated: July 7, 2010.
Sheridan Steele,
Superintendent, Acadia National Park.

[FR Doc. 2010-17587 Filed 7-19-10; 8:45 am]

BILLING CODE 4310-2N-P